INTERNATIONAL TRADE COMMISSION

[Investigation No. 337-TA-631]

Enforcement Proceeding; In the Matter of Certain Liquid Crystal Display Devices and Products Containing the Same; Notice of a Commission Determination Not To Review an Initial Determination Terminating the Enforcement Proceeding; Termination of the Enforcement Proceeding

AGENCY: U.S. International Trade Commission.

ACTION: Notice.

SUMMARY: Notice is hereby given that the U.S. International Trade Commission has determined not to review an initial determination (“ID”) (Order No. 29) of the presiding administrative law judge (“ALJ”) terminating the above-captioned enforcement proceeding based on a settlement agreement.

FOR FURTHER INFORMATION CONTACT: Clint Gerdine, Esq., Office of the General Counsel, U.S. International Trade Commission, 500 E Street, SW., Washington, DC 20436, telephone (202) 708-5468. Copies of non-confidential documents filed in connection with this enforcement proceeding are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this enforcement proceeding may be viewed on the Commission's electronic docket (EDIS) at http://edis.usitc.gov. Hearing-impaired persons are advised that information on this matter can be obtained by contacting the Commission's TDD terminal on (202) 205-1810.

SUPPLEMENTARY INFORMATION: The Commission instituted this enforcement proceeding on December 18, 2009, based on a complaint filed by Samsung Electronics Co., Ltd. (“Samsung”) of Korea. 74 FR 67248. The complaint alleges violations of the limited exclusion order and cease and desist orders issued at the conclusion of the underlying investigation, where the Commission found a violation of section 337 of the Tariff Act of 1930, as amended, 19 U.S.C. **1337, in the importation into the United States, the sale for importation, and the sale within the United States after importation of certain liquid crystal display devices and products containing the same by reason of infringement of certain claims of U.S. Patent No. 6,771,344. The Commission's notice of enforcement proceeding named the following respondents: Sharp Corporation of Japan; Sharp Electronics Corporation of Mahwah, New Jersey; and Sharp Electronics Manufacturing, Company of America, Inc. of San Diego, California (collectively, “Sharp”).

On February 12, 2010, Samsung and Sharp jointly moved to terminate the enforcement proceeding on the basis of a settlement agreement. No party opposed the motion.

The ALJ issued the subject ID on March 5, 2010, granting the motion for termination. He found that the motion for termination satisfies Commission rule 210.21(b). He further found, pursuant to Commission rule 210.50(b)(2), that termination of this enforcement proceeding by settlement agreement is in the public interest. No party petitioned for review of the ID. The Commission has determined not to review the ID, and the enforcement proceeding is terminated.

The authority for the Commission's determination is contained in section 337 of the Tariff Act of 1930, as amended (19 U.S.C. 1337), and in sections 210.21 and 210.42(h) of the Commission's Rules of Practice and Procedure (19 CFR 210.21, 210.42(h).

By order of the Commission.
Issued: March 19, 2010.
Marilyn R. Abbott,
Secretary to the Commission.

[FR Doc. 2010-6620 Filed 3-24-10; 8:45 am]

BILLING CODE 7020-02-P